NATIONAL CREDIT UNION ADMINISTRATION

12 CFR Ch. VII

Semiannual Regulatory Agenda; Correction

AGENCY: National Credit Union Administration (NCUA).

ACTION: Semiannual regulatory agenda; correction.

SUMMARY: The following information was inadvertently omitted from NCUA's semiannual regulatory agenda, which was published on Monday, December 3, 2001 (66 FR 62718).

FOR FURTHER INFORMATION CONTACT: Sheila A. Albin, Associate General Counsel, 1775 Duke Street, Alexandria, Virginia 22314 or telephone (703) 518-6540.

Correction: In the semiannual regulatory agenda Part LVIII, beginning on page 62718 in the issue of December 3, 2001, make the following correction. On page 62723, in the third column, add the following sequence numbers 4534 and 4535 following sequence number 4533.

Completed Actions:

4534. Requirements for Insurance (Subpart B)

Timetable:

Action | Date | FR Cite
Duplicate of RIN 3313- | 04/30/01
AC14 (Completed in Spring 2001 Agenda)

RIN: 3133-AC55.

4535. Nondiscrimination in Advertising

Priority: Substantive, Nonsignificant.

Legal Authority: 42 USC 3604(c).

CFR Citation: 12 CFR 701.31(d).

Legal Deadline: None. Abstract: Update the NCUA regulations for advertising and posting notice of nondiscrimination in real estate-related lending.

Timetable:

Action | Date | FR Cite
NPRM | 04/26/01 | 66 FR 20945
NPRM Comment | 06/25/01
Period End |  |
Final Action | 09/19/01 | 66 FR 48205
Final Action Effective | 10/19/01

Regulatory Flexibility Analysis Required: No

Small Entities Affected: No

Government Levels Affected: None

Agency Contact: Paul M. Peterson, Staff Attorney, National Credit Union Administration, 1775 Duke Street, Alexandria, VA 22314-3428, Phone: 703 518-6555, Fax: 703-518-6569, Email: ppeterson@ncua.gov

RIN: 3133-AC58.

Dated: December 18, 2001.
Hattie M. Ulan,
Special Counsel to the General Counsel.

[FR Doc. 01-31571 Filed 12-21-01; 8:45 am]

BILLING CODE 7535-01-P